FEDERAL COMMUNICATIONS COMMISSION

47 CFR Part 2

[ET Docket No. 03-102 and 99-261; FCC 03-90]

Above 76 GHz

AGENCY: Federal Communications Commission.

ACTION: Proposed rule.

SUMMARY: This document seeks comment on reallocate spectrum in the 76-81 GHz frequency and the frequency bands above 95 GHz to make the domestic and international frequency allocation changes consistent with each other. The realignment is consistent with change made at the 2000 World Radiocommunication Conference (WRC-2000). The primary intent of WRC-2000 was to place scientific services, such as Earth-exploration satellite (EESS) and radio astronomy (RAS) services in spectrum better suited to their needs. This document also seeks comment on adopting the limit for maximum power spectral density that can be delivered to a fixed service transmitter antenna set forth in the U.S. proposal to WRC-2000.

DATES: Written comments are due August 4, 2003, and reply comments are due September 2, 2003.

FOR FURTHER INFORMATION CONTACT: Shameeka Parrott, Office of Engineering and Technology, (202) 418-2062, email: sparrott@fcc.gov.

SUPPLEMENTARY INFORMATION: This is a summary of the Commission's Notice of Proposed Rulemaking, ET Docket No. 03-102 and 99-261, FCC 03-90, adopted April 16, 2003, and released April 28, 2003. The full text of this document is available for inspection and copying during normal business hours in the FCC Reference Center (Room CY-A257), 445 12th Street, SW., Washington, DC 20554. The complete text of this document also may be purchased from the Commission's copy contractor, Qualex International, 445 12th Street, SW., Room, CY-B402, Washington, DC 20554. The full text may also be downloaded at: http://www.fcc.gov. Alternate formats are available to persons with disabilities by contacting Brian Millin at (202) 418-7426 or TTY (202) 418-7365.

Pursuant to §§ 1.415 and 1.419 of the Commission's rules, 47 CFR 1.415, 1.419, interested parties may file comments on or before August 4, 2003, and reply comments on or before September 2, 2003. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address.” A sample form and directions will be sent in reply. Parties who choose to file by paper must file an original and four copies of each filing. If more than one docket or rulemaking number appear in the caption of this proceeding, commenters must submit two additional copies for each additional docket or rulemaking number.

All filings must be addressed to the Commission's Secretary, Office of the Secretary, Federal Communications Commission. Filings can be sent by hand or messenger delivery, by commercial overnight courier, or by first-class or overnight U.S. Postal Service mail (although we continue to experience delays in receiving U.S. Postal service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

Summary of the Notice of Proposed Rule Making

Reallocation of the Frequency Bands Above 76 GHz

1. The primary need for realigning spectrum above 76 GHz is to accommodate the requirements of the RAS and EESS services. Specifically, RAS must operate in bands that meet the requirements for spectral line and wideband continuum observations. Additionally, the EESS must operate in bands that are optimal for microwave limb sounding and nadir sounding of water vapor and other atmospheric constituents. Therefore, we proposed to incorporate WRC-2000 changes into our domestic frequency allocation table. Consistent with proposed allocation changes, we proposed to update several footnotes in the Table (US74, US211, US246, US263, and US342) to incorporate proposed bands which footnotes apply. Also, we proposed to replace international footnote 5.340 and 5.149 with U.S. footnotes US246 and US342, respectively and apply these footnotes to additional bands. Finally, to make the U.S. Table consistent with WRC-2000 changes, we proposed to remove nine U.S. footnotes that were adopted in a previous Commission proceeding. We seek comments on the proposed changes.

Maximum Power Density in the Band 55.78-56.26 GHz

2. We proposed to adopt the U.S. proposal of -28.5 dB (W/MHz) domestically as the maximum power spectral density limit delivered to fixed service transmitter antennas at 55.78-56.26 GHz. This was proposed due to WRC-200 adopting a higher power density limit of -26 dB, which NTIA believes is unacceptable for domestic use. The tighter limit proposed by the U.S. since passive measurements are extremely vulnerable to interference due to the variability of the atmosphere. A new U.S. footnote was proposed to reflect the proposed change in power spectral density limit.

3. We seek comment on the proposed power spectral density limit. Commenters should address the power spectral density in terms of its ability to protect EESS and its impact on equipment development, as well as, alternative power limits for the 55 GHz systems that would provide the same overall protection to EESS services. Commenters should address the impact of this limit on other services in the band.

Initial Regulatory Flexibility Certification

4. The Regulatory Flexibility Act of 1980, as amended (RFA),¹ requires that regulatory flexibility analyses be prepared for notice-and-comment rule making proceedings, unless the agency certifies that “the rule will not, if promulgated, have a significant economic impact on a substantial number of small entities.” ² The RFA generally defines the term “small entity” as having the same meaning as the terms “small business,” “small organization,” and “small governmental jurisdiction.” ³ In addition, the term “small business” has the same meaning as the term “small business concern” under the Small Business Act.⁴ A “small business concern” is one which: (1) Is independently owned and operated; (2) is not dominant in its field of operation; and (3) satisfies any additional criteria established by the Small Business Administration (SBA).⁵

¹ See 5 U.S.C. 603. The RFA, see 5 U.S.C. 601-612, has been amended by the Small Business Regulatory Enforcement Fairness Act of 1996 (SBREFA), Public Law 104-121, Title II, 110 Stat. 857 (1996).

² 5 U.S.C. 605(b).

³ 5 U.S.C. 601(6).

⁴ 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁵ 15 U.S.C. 632.

5. In this proposed rule, we propose to realign allocations in the bands 76-81 GHz and 95-1000 GHz consistent with the international allocation changes obtained at WRC-2000. This proposal would align passive allocations for RAS and Earth-exploration satellite services with spectrum that is more suited for such operations and would continue the Commission's efforts to promote the commercial development and growth of the “millimeter wave” spectrum, which will provide for future developments in technology and equipment. We also propose to adopt domestically the United States proposal at WRC-2000 in regards to the maximum power density delivered by a transmitter to the antenna of a fixed service in the 55.78-56.26 GHz band. This proposal will protect EESS from unaccepted interference from fixed and mobile operations. These proposed changes will not cause a significant adverse economic impact to small entities because there are no licensed commercial uses above 76 GHz; that is, no incumbent licensees will be affected. Service rules will be adopted in later proceedings, as appropriate.

6. Therefore, we certify that the proposals in the NPRM, if adopted, will not have a significant economic impact on a substantial number of small entities. The Commission will send a copy of the NPRM, including a copy of the Initial Regulatory Flexibility Certification, to the Chief Counsel for Advocacy of the SBA.⁶

⁶ 5 U.S.C. 605(b).

List of Subjects in 47 CFR Part 2

Radio.

Federal Communications Commission
Marlene H. Dortch,
Secretary.

Proposed Rules

For the reasons discussed in the preamble, the Federal Communications Commission proposes to amend 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.106 as follows:

a. Revise pages 79 and 81 through 90 of the Table.

b. In the list of United States footnotes, revise footnotes US74, US211, US246, US263, and US342; delete US369, US370, US371, US372, US373, US374, US375, US376, and US377.

c. In the list of United States footnotes, add footnote USXXX.

The additions and revisions read as follows:

§ 2.106 Table of Frequency Allocations.

* * * * *

* * * * *

United States (US) Footnotes

* * * * *

US74 In the bands 25.55-25.67, 73.0-74.6, 406.1-410.0, 608-614, 1400-1427, 1660.5-1670.0, 2690-2700, and 4990-5000 MHz and in the bands 10.68-10.7, 15.35-15.4, 23.6-24.0, 31.3-31.5, 86-92, 100-102, 109.5-111.8, 114.25-116, 148.5-151.5, 164-167, 200-209, and 250-252, the radio astronomy service shall be protected from extraband radiation only to the extent that such radiation exceeds the level which would be present if the offending station were operating in compliance with technical standards or criteria applicable to the service in which it operates. Radio astronomy observations in these bands are performed at the locations listed in US311.

* * * * *

US211 In the bands 1670-1690, 5000-5250 MHz and 10.7-11.7, 15.1365-15.35, 15.4-15.7, 22.5-22.55, 24-24.05, 31.0-31.3, 31.8-32.0, 40.5-42.5, 84-86, 123-130, 158.5-164, 167-168, 191.8-200, and 252-265 GHz, applicants for airborne or space station assignments are urged to take all practicable steps to protect radio astronomy observations in the adjacent bands from harmful interference; however, US74 applies.

* * * * *

US246 No station shall be authorized to transmit in the following bands:

608-614 MHz, except for medical telemetry equipment,⁷ 1400-1427 MHz, 1660.5-1668.4 MHz, 2690-2700 MHz, 4990-5000 MHz, 10.68-10.7 GHz, 15.35-15.4 GHz, 23.6-24 GHz, 31.3-31.8 GHz, 50.2-50.4 GHz, 52.6-54.25 GHz, 86-92 GHz, 100-102 GHz, 109.5-111.8 GHz, 114.25-116 GHz, 148.5-151.5 GHz, 164-167 GHz, 182-185 GHz, 190-191.8 GHz, 200-209 GHz, 226-231.5 GHz, 250-252 GHz,

⁷ Medical telemetry equipment shall not cause harmful interference to radio astronomy operations in the band 608-614 MHz and shall be coordinated under the requirements found in 47 CFR 95.1119.

* * * * *

US263 In the bands 21.2-21.4 GHz, 22.21-22.5 GHz, 36-37 GHz, and 56.26-58.2 GHz, the space research and Earth exploration-satellite services shall not receive protection from the fixed and mobile services operating in accordance with the Table of Frequency Allocations.

* * * * *

US342 In making assignments to stations of other services to which the bands: 13360-13410 kHz, 22.81-22.86 GHz, 136-148.5 GHz, 37.5-38.25 MHz, 23.07-23.12 GHz, 151.5-158.5 GHz, 322-328.6 MHz, 31.2-31.3 GHz, 209-226 GHz, 1330-1400 MHz, 36.43-36.5 GHz, 241-250 GHz, 1610.6-1613.8 MHz, 42.5-43.5 GHz, 252-275 GHz 1660-1670 MHz, 48.94-49.04 GHz, 3260-3267 MHz, 76-81 GHz, 3332-3339 MHz, 95-100 GHz, 3345.8-3352.5 MHz, 102-109.5 GHz, 4825-4835 MHz, 111.8-114.25 GHz, 14.47-14.5 GHz, 128.33-128.59 GHz, 22.01-22.21 GHz, 129.23-129.49 GHz, 22.21-22.5 GHz, 130-134 GHz, are allocated, administrations are urged to take all practicable steps to protect the radio astronomy service from harmful interference. Emissions from spaceborne or airborne stations can be particularly serious sources of interference to the radio astronomy service (see Nos. 4.5 and 4.6 and Article 29 of the ITU Radio Regulations).

* * * * *

USxxx In the band 55.78-56.26 GHz, in order to protect stations in the Earth exploration-satellite service (passive), the maximum power density delivered by a transmitter to the antenna of a fixed service station is limited to -28.5 dB(W/MHz).

* * * * *

[FR Doc. 03-13780 Filed 6-2-03; 8:45 am]

BILLING CODE 6712-01-P